OFFICE OF THE UNITED STATES TRADE REPRESENTATIVE

Generalized System of Preferences (GSP); Public Hearings for the Petitions for the GSP 1999 IPR Country Practices Review, Additional Change in Schedule of Hearings and Deadline for Submitting Comments on Petitions for the GSP 1999 Country Practices Review

AGENCY: Office of the United States Trade Representative (USTR).

ACTION: Notice of Change in Schedule of Hearings and Deadline for Submitting Comments on Petitions for the GSP 1999 Country Practices Review.

SUPPLEMENTARY INFORMATION: Notice is hereby given of a change in the date, and a change in the date for submission of comments, for the GSP Public Hearings to be held for country practice petitions accepted for review in the GSP 1999 Country Practices Review. These hearings were scheduled for April 3 and April 4, 2000, and then rescheduled for April 13 and April 14, beginning at 10:00 a.m. A Federal Register notice regarding these hearings was published on February 14, 2000 (65 FR 7410-7412), and then another published on March 1, 2000 (65 FR 11104-11105).

The scheduled dates for the GSP Public Hearings are changed from April 3 and April 4, 2000, and again from April 13 and April 14, to May 12. There is only one day of hearings. The location of the GSP Hearings remains the same at the White House Conference Center, the Truman Room, 726 Jackson Place, NW, Washington, DC 20500. The deadline for submission of Post-hearing Briefs and Rebuttal Briefs is changed to June 9. The Hearings will begin at 10:00 a.m. See attached revised calendar.

All other information in the notice at 65 FR 7410 (February 14, 2000) remains the same.

FOR FURTHER INFORMATION CONTACT: GSP Subcommittee, Office of the United States Trade Representative, 600 17th Street, NW, Room 518, Washington, DC 20508 (Tel. 202/395-6971).

Jon Rosenbaum,
Assistant USTR for Trade and Development.

[FR Doc. 00-8707 Filed 4-6-00; 8:45 am]

BILLING CODE 3190-01-M